COMMISSION ON CIVIL RIGHTS

Agenda and Notice of Public Meeting of the Wisconsin Advisory Committee

Notice is hereby given, pursuant to the provisions of the rules and regulations of the U.S. Commission on Civil Rights, that the Wisconsin Advisory Committee to the Commission will convene a planning meeting via conference call on Wednesday, April 2, 2003 from 1 p.m. until 3 p.m. The purpose of the meeting is to discuss an upcoming project: “Police Protection of Minority Communities in Milwaukee”.

This conference call is available to the public through the following call-in number: 1-800-497-7709, access code: 161187514. Any interested member of the public may call this number and listen to the meeting. Persons with hearing impairments may also follow the proceedings by first calling the Federal Relay Service at 1-800-977-8339 and providing the Service with the conference call number and access code.

To ensure that the Commission secures an appropriate number of lines, persons are asked to register by contacting Constance M. Davis, Regional Director of the Midwestern Regional Office, U.S. Commission on Civil Rights at (312) 353-8311 (TDD 312-353-8362), by 4 p.m. on Tuesday, April 1, 2003.

The meeting will be conducted pursuant to the provisions of the rules and regulations of the Commission.

Dated at Washington, DC, on March 25, 2003.
Dawn Sweet,
Acting Chief, Regional Programs Coordination Unit.

[FR Doc. 03-8244 Filed 4-3-03; 8:45 am]

BILLING CODE 6335-01-P